DEPARTMENT OF LABOR

Employment and Training Administration

[TA-W-65,102]

Kelsey Hayes Company, North American Braking and Suspension Division, a Subsidiary of TRW Automotive, Inc., Including On-Site Leased Workers From Kelly Services and Volt Services Fenton, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 23, 2009, applicable to workers of Kelsey Hayes Company, North American Braking and Suspension Division, Inc., Fenton, Michigan. The notice was published in the Federal Register on March 10, 2009 (74 FR 10303).

At the request of the State agency, the Department reviewed the certification for workers of the subject firm. The workers are engaged in the production of anti-skid braking systems and stability control.

New information provided by the company shows that workers leased from Volt Services were employed on-site at Kelsey Hayes Company, North American Braking and Suspension Division, Inc., Fenton, Michigan.

The intent of the Department's certification is to include all workers at the subject firm who were adversely affected due to supplying a trade certified primary firm.

The Department has determined that these workers were sufficiently under the control of Kelsey Hayes Company to be considered leased workers.

Based on these findings, the Department is amending this certification to include workers leased from Volt Services working on-site at the Fenton, Michigan location of the subject firm.

The amended notice applicable to TA-W-65,102 is hereby issued as follows:

All workers Kelsey Hayes Company, North American Braking and Suspension Division, Inc., Fenton, Michigan, including on-site leased workers from Kelly Services and Volt Services, who became totally or partially separated from employment on or after February 3, 2008, through February 17, 2011, are eligible to apply for adjustment assistance under Section 223 of the Trade Act of 1974, and are also eligible to apply for alternative trade adjustment assistance under Section 246 of the Trade Act of 1974.

Signed in Washington, DC, this 6th day of April 2009.
Linda G. Poole,
Certifying Officer, Division of Trade Adjustment Assistance.

[FR Doc. E9-8692 Filed 4-15-09; 8:45 am]

BILLING CODE 4510-FN-P